DEPARTMENT OF HEALTH AND HUMAN SERVICES

Centers for Disease Control and Prevention

[Program Announcement 05004]

Comprehensive STD Prevention Systems, Prevention of STD-Related Infertility, and Syphilis Elimination—Amendment

A notice announcing the availability of fiscal year (FY) 2005 funds for Comprehensive STD Prevention Systems, Prevention of STD-Related Infertility, and Syphilis Elimination was published in the Federal Register on July 21, 2004, Volume 69, Number 139, pages 43595-43607. The notice is amended as follows:

• Page 43604, second column, CSPS number 2—Sentence should read, “When federal funds are used to develop or purchase STD health education materials, they shall contain medically accurate information regarding the effectiveness or lack of effectiveness of condoms in preventing the STD the materials are designed to address.

• Page 43605, first and second columns, V. Application Review Criteria—Please delete and disregard the review criteria listed for QEI and GISP; these scoring systems do not apply, as all applications will undergo technical acceptability reviews (TAR).

• Page 43605, second column, V.2. Review and Selection Process, second paragraph—Please replace “objective review panel” with “technical acceptability review group”.

• Page 43607, first column, VI.3. Reporting Requirements, numbers 2 and 3 will become numbers 3 and 4. Please insert the following language as reporting requirement number 2, “Annual progress report, due March 31 following the end of each budget period. Include the following items: reporting budget period activities and objectives; Tables 1 through 3, previously listed for the interim progress report; and measures of effectiveness, also previously listed for the interim progress report.

Dated: August 3, 2004.
William P. Nichols,
Acting Director, Procurement and Grants Office, Centers for Disease Control and Prevention.

[FR Doc. 04-18109 Filed 8-6-04; 8:45 am]

BILLING CODE 4163-18-U